NATIONAL SCIENCE FOUNDATION

Proposal Review Panel for Physics; Notice of Meeting

In accordance with the Federal Advisory Committee Act (Pub. L. 92-463, as amended), the National Science Foundation announces the following meeting.

Name: LIGO Annual Review Site Visit at Hanford Observatory for Physics (1208).

Date and Time: Tuesday, April 9, 2013; 8:00 a.m.-6:00 p.m.

Place: LIGO site at Hanford, WA.

Type of Meeting: Partially Closed.

Contact Person: Mark Coles, Director of Large Facilities, Division of Physics, National Science Foundation, Arlington, VA (703) 292-4432.

Purpose of Meeting: To provide an evaluation of the project construction for implementation of the AdvLIGO project to the National Science Foundation.

Agenda:

8:00 a.m.-8:30 a.m. Closed Panel session

8:30 a.m.-10:30 a.m. Open—Introduction: LIGO, Advanced LIGO, the 3rd Interferometer Post-Project Operations activities, Storage Plan Overview by subsystem

10:30 a.m.-12:30 p.m. Open—Tour

12:30 Lunch

1:00 p.m.-3:00 p.m. Open—Parallel discussions, if desired, and `drill down', Group discussions; walk through Charge items

15:30 p.m.-6:00 p.m. Closed—Session Panel writing, Closeout presentation by review panel

Reason For Closing: The proposal contains proprietary or confidential material, including technical information on personnel. These matters are exempt under 5 U.S.C. 552b(c)(2)(4) and (6) of the Government in the Sunshine Act.

Dated: March 8, 2013.
Susanne Bolton,
Committee Management Officer.

[FR Doc. 2013-05816 Filed 3-13-13; 8:45 am]

BILLING CODE 7555-01-P